DEPARTMENT OF ENERGY

Federal Energy Regulatory Commission

[Docket No. CP15-528-000]

Equitrans, LP; Notice of Schedule for Environmental Review of the TP-371 Replacement Project

On July 10, 2015, Equitrans, LP (Equitrans) filed an application in Docket No. CP15-528-000 requesting a Certificate of Public Convenience and Necessity pursuant to Section 7(c) of the Natural Gas Act to construct and operate certain natural gas pipeline facilities, and permission under Section 7(b) of the Natural Gas Act to abandon in place an existing segment of pipeline. The proposed project, known as the TP-371 Pipeline Replacement Project, would upgrade the existing system to allow for in-line inspection and improve operational efficiency and reliability. No change in the transportation capacity of the existing pipeline system is proposed.

On July 23, 2015, the Federal Energy Regulatory Commission (Commission or FERC) issued its Notice of Application for the project. Among other things, the Notice of Application alerted agencies issuing federal authorizations of the requirement to complete all necessary reviews and to reach a final decision on a request for a federal authorization within 90 days of the date of issuance of the Commission staff's Environmental Assessment (EA) for the project. This instant notice identifies the FERC staff's planned schedule for the completion of the EA for the project.

Schedule for Environmental Review

Issuance of EA February 29, 2016

90-Day Federal Authorization Decision Deadline May 31, 2016

If a schedule change becomes necessary, additional notice will be provided so that the relevant agencies are kept informed of the project's progress.

Project Description

The project would include construction of 20.9 miles of 20-inch-diameter natural gas pipeline and related facilities, and abandonment of the adjacent 12-inch-diameter pipeline. Minor aboveground facilities would also be constructed, relocated, or abandoned. The project would be located in Armstrong and Indiana Counties, Pennsylvania.

Background

On August 19, 2015, the Commission issued a Notice of Intent to Prepare an Environmental Assessment for the Proposed TP-371 Pipeline Replacement Project and Request for Comments on Environmental Issues (NOI). The NOI was sent to affected landowners; federal, state, and local government agencies; elected officials; environmental and public interest groups; Native American tribes; other interested parties; and local libraries, newspapers, and radio stations. In response to the NOI, the Commission received environmental comments from the Pennsylvania Department of Conservation and Natural Resources, Consol Energy Inc., Allegheny Defense Project, combined comments from the Allegheny Defense Project and the Ohio Valley Environmental Coalition, and one landowner. The primary issues raised by the commentors included impacts on community parks and recreation projects; vegetation; mining properties, and cumulative impacts; unauthorized access of the right-of-way; future upgrades of the Equitrans system; and natural gas production methods.

Additional Information

In order to receive notification of the issuance of the EA and to keep track of all formal issuances and submittals in specific dockets, the Commission offers a free service called eSubscription. This can reduce the amount of time you spend researching proceedings by automatically providing you with notification of these filings, document summaries, and direct links to the documents. Go to www.ferc.gov/docs-filing/esubscription.asp.

Additional information about the project is available from the Commission's Office of External Affairs at (866) 208-FERC or on the FERC Web site (www.ferc.gov). Using the “eLibrary” link, select “General Search” from the eLibrary menu, enter the selected date range and “Docket Number” excluding the last three digits (i.e., CP15-528), and follow the instructions. For assistance with access to eLibrary, the helpline can be reached at (866) 208-3676, TTY (202) 502-8659, or at FERCOnlineSupport@ferc.gov. The eLibrary link on the FERC Web site also provides access to the texts of formal documents issued by the Commission, such as orders, notices, and rule makings.

Dated: February 12, 2016.
Nathaniel J. Davis, Sr.,
Deputy Secretary.

[FR Doc. 2016-03612 Filed 2-22-16; 8:45 am]

BILLING CODE 6717-01-P